LIBRARY OF CONGRESS

Copyright Office

37 CFR Parts 201 and 229

[Docket No. 2024-5]

Copyright Claims Board: Final Determination Certification

AGENCY: U.S. Copyright Office, Library of Congress.

ACTION: Final rule.

SUMMARY: The U.S. Copyright Office is issuing a final rule adjusting the process and fee to obtain a certified final determination from the Copyright Claims Board.

DATES: This rule is effective October 4, 2024.

FOR FURTHER INFORMATION CONTACT: Rhea Efthimiadis, Assistant to the General Counsel, by email at meft@copyright.gov or telephone at 202-707-8350.

SUPPLEMENTARY INFORMATION: The Copyright Alternative in Small-Claims Enforcement Act of 2020 (the “CASE Act”) directed the Copyright Office to establish the Copyright Claims Board (the “CCB”), an alternative and voluntary forum for parties seeking to resolve certain copyright-related disputes that have a total monetary value of $30,000 or less. On May 17, 2022, the Copyright Office published a final rule addressing various topics governing the CCB, including how to obtain a certified official record of a CCB proceeding (the “May 17 Rule”).¹ The Office needed to promulgate a rule governing such requests due to the CASE Act's requirements for Federal court enforcement of the CCB's final determinations. Under the CASE Act, in situations where the non-prevailing party fails to comply with the final determination issued by the CCB in a proceeding, the prevailing party may “apply to [an appropriate U.S. district court] for an order confirming the relief awarded in the final determination and reducing such award to judgment.” ² Any such application to a Federal district court must include a “certified copy of the final or amended final determination of the [CCB], as reflected in the records of the [CCB].” ³

¹ 87 FR 30060 (May 17, 2022).

² 17 U.S.C. 1508(a).

³ Id. at 1508(b)(2)(A).

The May 17 Rule stated that the CCB will certify the official record of a proceeding “[u]pon a written request to the Records Research and Certification Section [(“RRC”)] of the U.S. Copyright Office . . . and payment of the appropriate fee.” ⁴ Pursuant to this rule, the Office's general process and fees for the retrieval, copying, and certification of Office records are applied to requests for a certified official record of a final CCB determination. The Office's combined fees for retrieval, copying, and certification, however, are likely to result in an amount that is more than the cost of initiating a proceeding before the CCB.⁵

⁴ 87 FR 30060, 30089.

⁵ See 37 CFR 201.3(c)(19) (identifying certification fee as $200 per hour); id. at 201.3(c)(22)(ii) (identifying retrieval of digital records fee as $200 per hour, with a half hour minimum); id. at 201.3(d)(6) (identifying copying of Office records fee as $12); see also id. at 201.3(g)(1) (identifying $100 fee to initiate a Board proceeding).

This final rule creates a different process and fee for retrieving, copying, and certifying CCB determinations. Instead of making such certification requests to RRC, the final rule makes the CCB itself responsible for handling these requests.⁶ Further, to better reflect the statutory requirement that the “final determination” is the required documentation that must be submitted to a Federal district court to confirm the CCB award,⁷ the rule reflects that only the final or amended final determination must be certified and not the entire record. Finally, the Office believes that until it engages in a fee study,⁸ it is reasonable to set the new fee at $15—a fee very similar to what it charges for copying records.⁹ This lower fee is reasonable because, in contrast to the challenges of locating and certifying other Office records, the CCB's records are located on a dedicated electronic filing and case management platform (known as “eCCB”) where they can be quickly retrieved for certification.

⁶ The Board is comprised of three Copyright Claims Officers, whose duties include “certify[ing] official records of [the Board's] proceedings.” 17 U.S.C. 1502(b)(1), 1503(a)(1)(I).

⁷ Id. at 1508(a), (b)(2)(A).

⁸ The Register periodically engages in a statutorily required study of the costs incurred by the Office for providing various services and provides the public notice of any proposed changes in the Office's fees and the opportunity for public comment. See id. at 708(b).

⁹ 37 CFR 201.3(d)(6).

The Office is aware that there already may be circumstances where the CCB has issued a final determination, and a non-prevailing party has failed to pay damages (or has failed otherwise to comply with the relief awarded in the Board's final determination) in a timely manner. While prevailing parties could pay the currently applicable fee for records retrieval and certification, consistent with the goals of a small-claims tribunal to be affordable and efficient, it is appropriate to provide such parties immediate relief from paying these higher costs and streamlining the process to make such requests. For these reasons, the Office finds good cause to issue a direct final rule in this proceeding without first engaging in a public notice and comment process.¹⁰ Similarly, the Office finds that engaging in a notice and comment procedure would effectively unduly delay relief to prevailing parties in CCB proceedings and therefore finds good cause exists to issue these regulations as a final rule with an immediate effective date.¹¹

¹⁰ 5 U.S.C. 553(b).

¹¹ Id. at 553(d).

List of Subjects

37 CFR Part 201

Copyright, General provisions.

37 CFR Part 229

Claims, Copyright.

Final Regulations

For the reasons stated in the preamble, the U.S. Copyright Office amends chapter II, subchapters A and B, of title 37 Code of Federal Regulations, to read as follows:

Subchapter A—Copyright Office and Procedures

PART 201—GENERAL PROVISIONS

1. The general authority citation for part 201 continues to read as follows:

Authority: 17 U.S.C. 702.

2. In § 201.3, in table 4 to paragraph (g), add paragraph (g)(4) to read as follows:

§ 201.3 Fees for registration, recordation, and related services, special services, and services performed by the Licensing Section and the Copyright Claims Board.

* * * * *

(g) * * *

Table 4 to Paragraph (g)
Copyright Claims Board fees | Fees ($)
* * * * * * *
(4) Filing fee for the Copyright Claims Board to retrieve, copy, and certify the official final determination or amended final determination of a proceeding (per record item) | 15

Subchapter B—Copyright Claims Board and Procedures

PART 229—RECORDS AND PUBLICATION

3. The authority citation for part 229 continues to read as follows:

Authority: 17 U.S.C. 702, 1510.

4. Revise § 229.2 to read as follows:

§ 229.2 Final determination certification.

Upon a party's written request to the Board and payment of the appropriate fee pursuant to 37 CFR 201.3, the Board will provide a certified copy of a proceeding's final or amended final determination. A party who wishes to engage in this service should contact the Board for further instructions on how to make this request.

Dated: September 26, 2024.
Shira Perlmutter,
Register of Copyrights and Director of the U.S. Copyright Office.
Approved by:
Carla D. Hayden,
Librarian of Congress.

[FR Doc. 2024-22907 Filed 10-3-24; 8:45 am]

BILLING CODE 1410-30-P